NATIONAL AERONAUTICS AND SPACE ADMINISTRATION

14 CFR Part 1204

[Docket Number—2014-0009]

RIN 2700-AE10

NASA Protective Services Enforcement

AGENCY: National Aeronautics and Space Administration (NASA).

ACTION: Final rule.

SUMMARY: NASA is amending its regulations by adding a subpart for traffic enforcement regulations, authorities, and procedures at all NASA Centers and component facilities. Changes are being made to align this part with NASA objectives in the protection of its people and property. Establishing a traffic safety program is essential for the protection and security of NASA bases, stations, facilities laboratories and of its aircraft, spacecraft, missiles and similar vehicles and of its real and personal property, including property in the custody of NASA contractors and subcontractors.

DATES: Effective Date: September 15, 2014.

FOR FURTHER INFORMATION CONTACT: Charles Lombard, 202-358-0891, charles.e.lombard.nasa.gov.

SUPPLEMENTARY INFORMATION:

I. Background

NASA published a proposed rule in the Federal Register at 79 FR 37252 on July 1, 2014, to amend its regulations by adding a subpart to establish traffic enforcement regulations, authorities, and procedures at all NASA Centers and component facilities. Amendments to this rule aligns Part 1204 with NASA objectives in the protection of its people and property. The proposed rule published on July 1, 2014. No respondents submitted comments on the proposed rule. The revisions to this rule are part of NASA's retrospective plan under EO 13563 completed in August 2011.

II. Regulatory Analysis Section

Regulatory Flexibility Act

The Regulatory Flexibility Act (5 U.S.C. 601 et seq.) generally requires an agency to conduct a regulatory flexibility analysis of any rule subject to notice and comment rulemaking requirements, unless the agency certifies that the rule will not have a significant economic impact on a substantial number of small entities. This rule would not have a significant economic impact on a substantial number of small entities because this rule only pertains to NASA employees.

Executive Order 12866 and Executive Order 13563

Executive Orders 12866 and 13563 direct agencies to assess all costs and benefits of available regulatory alternatives and, if the regulation is necessary, to select the regulatory approach that maximizes net benefits. This rule is not a significant regulatory action under section 3(f) of Executive Order 12866, Regulatory Planning and Review, because this rule relates solely to the internal operations of NASA. Therefore, the Office of Management and Budget did not review this rule.

Paperwork Reduction Act

The Paperwork Reduction Act (44 U.S.C. chapter 35) does not apply to this rule because it does not contain any information collection requirement that requires approval of the Office of Management and Budget.

Small Business Regulatory Enforcement Fairness Act

This rule relates to agency management or personnel, and therefore the Small Business Regulatory Enforcement Fairness Act of 1996 (5 U.S.C. 801 et seq.) does not cover the rule.

Executive Order 13132, Federalism

This rule will not have substantial direct effects on the States, on the relationship between the national government and the States, or on the distribution of power and responsibilities among the various levels of government. Therefore, in accordance with Executive Order 13132, Federalism, NASA has determined that the rule does not have sufficient federalism implications to warrant the preparation of a federalism summary impact statement.

Unfunded Mandates Reform Act

For the purposes of the Unfunded Mandates Reform Act of 1995 (2 U.S.C. chapter 25, subchapter II), this rule would not significantly or uniquely affect small governments and would not result in increased expenditures by State, local, and tribal governments, or by the private sector, of $100 million or more (as adjusted for inflation) in any one year.

List of Subjects in 14 CFR Part 1204

Federal buildings and facilities, Security measures.

Accordingly, under the authority of the National Aeronautics and Space Act, as amended, (51 U.S.C. 20113), 5 U.S.C. 301, and 18 U.S.C. 799, NASA amends 14 CFR part 1204 as follows:

PART 1204—ADMINISTRATIVE AUTHORITY AND POLICY

1. Add subpart 11 to read as follows:

Subpart 11—Enforcing Traffic Laws at NASA Centers and Component Facilities
Sec.
1204.1100 Scope of subpart.
1204.1101 Policy.
1204.1102 Responsibilities.
1204.1103 Procedures.
1204.1104 Violations.

Subpart 11—Enforcing Traffic Laws at NASA Centers and Component Facilities

Authority: The National and Commercial Space Program 51 U.S.C. 20132 and 20133 et seq; 5 U.S.C. 301, and 18 U.S.C. 799 (2014).

§ 1204.1100 Scope of subpart.

This subpart establishes policies pursuant to the requirements of National and Commercial Space Programs (51 U.S.C. 20132) authorizing the NASA Administrator to establish such security requirements, restrictions and safeguards as he deems necessary in the interest of national security, under 5 U.S.C. 301, “Housekeeping statute,” and 18 U.S.C. 799, making it criminal to violate published NASA regulations. The provisions of this subpart apply to all NASA installations, including NASA Headquarters, NASA Centers, and component facilities. NASA installations refers to all NASA-owned, controlled, or leased property, with exclusive or concurrent Federal jurisdiction, including non-contiguous or unfenced areas and including areas otherwise open to the public at large. These provisions are also applicable to all persons who operate or control a motor vehicle, or otherwise use the streets of a NASA installation, over which the United States exercises exclusive or concurrent legislative jurisdiction.

§ 1204.1101 Policy.

(a) It is NASA policy that an effective, standardized, and comprehensive traffic safety program be established and maintained at all NASA Centers, and component facilities, as prescribed in NASA Procedural Requirement (NPR) 8715.C, NASA General Safety Program Requirements. A traffic safety program is essential for the protection and security of NASA laboratories, stations, base, or other facilities, and for the protection of any of its aircraft, missiles, spacecraft, or similar vehicles, or part thereof, and/or of any property or equipment in the custody of any contractor, subcontractor, or the Administration.

(b) To ensure a safe and secure workplace and to provide better for preservation of life and property, all persons on a NASA Center or component facility shall comply with the vehicular and pedestrian traffic requirements of the installation per this Subpart, and the laws of the state in which the installation is located.

(c) Vehicular and pedestrian traffic. (1) Drivers of all vehicles in or on NASA-owned, controlled or leased property shall be in possession of a current and valid state or territory issued driver's license and vehicle registration, and the vehicle shall display all current and valid tags and licenses required by the jurisdiction in which it is registered.

(2) Drivers who have had their privilege or license to drive suspended or revoked by any state or territory shall not drive any vehicle in or on property during such period of suspension or revocation.

(3) Drivers of all vehicles in or on property shall drive in a careful and safe manner at all times and shall comply with the signals and directions of security force personnel, other authorized individuals, and all posted traffic signs, including speed limits.

(4) The blocking of entrances, driveways, walks, loading platforms, or fire hydrants in or on property is prohibited.

(5) Parking without authority, parking in unauthorized locations or in locations reserved for other persons, parking continuously in excess of 18 hours without permission, or contrary to the direction of posted signs is prohibited. This section may be supplemented by the Center Director or installation officer in charge from time to time by the issuance and posting of specific traffic directives. When so issued and posted, such directives shall have the same force and effect as if made a part hereof.

(d) Center Directors are hereby delegated authority to determine if their respective Centers require the authority and ability to issue traffic and parking citations, which if implemented, must be in accordance with this Subpart. Should no traffic and parking citation authority and ability be necessary, the Center Director concerned will make a report of same to the Administrator via Associate Administrator for Protective Services. Prior to the effective date of Centers implementing, Centers and Headquarters Operations should transmit their proposed regulations to NASA Office of Protective Services for review and concurrence.

(e) Consistent with arrangements with Federal authorities as each Center and Headquarters may make, violators of such regulations may be issued a District Court Violation Notices for offenses by security officers, including contractor guards. In accordance with this regulation, Centers are authorized to make liaison and such arrangements for appropriate enforcement programs with the cognizant Office(s) of the United States Attorney. Additional information on processing violation notices and liaison necessary is available at: http://www.cvb.uscourts.gov/.

(f) A copy of this subpart shall be posted in an appropriate place at each NASA Center or component facility.

§ 1204.1102 Responsibilities.

(a) The Center Directors of NASA installations and the Executive Director for Headquarters Operations over which the United States has exclusive or concurrent legislative jurisdiction, and consistent with the foregoing, are delegated the authority to establish additional vehicular and pedestrian traffic rules and regulations for their installations.

(b) All persons on a NASA Center or component facility are responsible for compliance with locally established vehicular and pedestrian traffic rules and regulations.

§ 1204.1103 Procedures.

The Center Directors and the Executive Director for Headquarters Operations shall issue local policies and procedural requirements, subject to prior NASA Office of Protective Services approval, which will implement this regulation for their respective NASA Centers and component facilities.

§ 1204.1104 Violations.

A person found in violation, on a NASA installation, of any vehicular or pedestrian traffic law, or local installation vehicular or pedestrian traffic rule or regulation made applicable to the installation under the provisions of this subpart, is subject to punishment as provided for by 18 U.S.C. 799 (violation of regulations of NASA).

Nanette Jennings,
NASA Federal Register Liaison Officer.

[FR Doc. 2014-21784 Filed 9-12-14; 8:45 am]

BILLING CODE 7510-13-P